NATIONAL SCIENCE FOUNDATION

Notice of Permit Applications Received; Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by February 19, 2013. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant:

Permit Application: 2013-026.

Matthew C. Lamanna, Assistant Curator, Section of Vertebrate Paleontology, Carnegie Museum of Natural History, 4400 Forbes Avenue, Pittsburgh, PA 15213-4080.

Activity for Which Permit Is Requested

Enter Antarctic Specially Protected Areas. The applicant intends to enter Fildes Peninsula (ASPA 125) and Byers Peninsula (ASPA 126) to conduct paleontological and geological fieldwork. The will explore for, discover, and collect vertebrate fossils (primarily those of fishes, marine reptiles, non-avian dinosaurs, birds and mammals) in deposits of Cretaceous through Paleogene age on islands in the vicinity of he Antarctic Peninsula. Depending on the specific discoveries made, significant new light may be shed on the evolution, faunal dynamics, and/or paleobiogeography of such important vertebrate groups as non-avian dinosaurs, crown clad birds, and therian mammals in the critical interval that brackets the Cretaceous-Paleogene boundary.

Location

Antarctic Peninsula including Fildes Peninsula (ASPA 125) and Byers Peninsula (ASPA 126).

Dates

February 11, 2013 to March 31, 2014.

2. Applicant:

Permit Application: 2013-027

Paul Koch, Department of Earth and Planetary Sciences, University of California Santa Cruz, Santa Cruz, CA 95064.

Activity for Which Permit Is Requested

Import into the United States. The applicant's project is designed to understand the interactions between marine mammal species, particularly seals, and changing climate and environmental conditions over the Holocene. The applicant will sample large numbers of seal remains dating back to about 7000 years ago to reconstruct population dynamics and seal ecology, and reconstruct oceanographic conditions. The analyses include radiocarbon dating, stable isotopic measurements, and ancient DNA determinations. The collected samples will be imported into the United States for further analyses at the University of California Santa Cruz.

Location

The McMurdo Dry Valleys, Royal Society Range region and adjacent coastal areas.

Dates

February 11, 2013 to February 10, 2014.

Nadene G. Kennedy,
Permit Officer, Office of Polar Programs.

[FR Doc. 2013-00911 Filed 1-16-13; 8:45 am]

BILLING CODE 7555-01-P